DEPARTMENT OF HEALTH AND HUMAN SERVICES

Centers for Disease Control and Prevention

[Docket No. CDC-2020-0124]

Advisory Committee on Immunization Practices (ACIP); Correction

Notice is hereby given of a change in the meeting of the Advisory Committee on Immunization Practices (ACIP); December 18, 2020, 12:00 p.m.—6:00 p.m., EST; and December 20, 2020, 12:00 p.m.—6:00 p.m., EST (times subject to change, see the ACIP website for any updates: http://www.cdc.gov/vaccines/acip/index.html), which was published in the Federal Register on December 11, 2020, Volume 85, Number 239, page 80108.

The meeting dates and times should read as follows:

DATES: The meeting will be held on December 19—20, 2020 from 11 a.m. to 4:30 p.m., EST (times subject to change, see the ACIP website for any updates: http://www.cdc.gov/vaccines/acip/index.html).

Written comments must be received on or before December 21, 2020.

The meeting is open to the public.

FOR FURTHER INFORMATION CONTACT: Stephanie Thomas, ACIP Committee Management Specialist, Centers for Disease Control and Prevention, National Center for Immunization and Respiratory Diseases, 1600 Clifton Road, NE, MS-H24-8, Atlanta, GA 30329-4027; Telephone: 404-639-8367; Email: ACIP@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-28090 Filed 12-16-20; 4:15 pm]

BILLING CODE 4163-18-P